DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Write Your Own (WYO) Company Participation Criteria; New Applicant.

OMB Number: 1660-0038.

Abstract: The Federal government is a guarantor of flood insurance coverage issued under the WYO arrangement. To determine eligibility for participation in the WYO program, the NFIP requires a on-time submission of data demonstrating insurance companies qualification.

Affected Public: Business or Other For Profit.

Number of Respondents: 5.

Estimated Time per Respondent: 7 hours.

Estimated Total Annual Burden Hours: 35.

Frequency of Response: Per request.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before March 3, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: January 25, 2006.
George S. Trotter,
Acting, Branch Chief, Information Resources Management Branch, Information Technology Services Division.

[FR Doc. E6-1327 Filed 1-31-06; 8:45 am]

BILLING CODE 9110-12-P